ENVIRONMENTAL PROTECTION AGENCY

40 CFR Part 63

[EPA-HQ-OAR-2010-1042; FRL-9964-89-OAR]

RIN 2060-AT58

National Emission Standards for Hazardous Air Pollutants for Wool Fiberglass Manufacturing; Flame Attenuation Lines

AGENCY: Environmental Protection Agency (EPA).

ACTION: Direct final rule.

SUMMARY: The Environmental Protection Agency (EPA) is taking direct final action to amend the national emission standards for hazardous air pollutants for flame attenuation (FA) lines in the wool fiberglass manufacturing industry. This direct final rule provides affected sources a 1-year extension to comply with the emission limits for FA lines. The EPA can provide sources up to 3 years to comply with emission limits in the Clean Air Act (CAA) standards. FA lines initially were given 2 years to comply with the emission limits. This action will extend the compliance date to the maximum of 3 years while we conduct our review. This compliance date extension will enable the EPA to conduct a review of the emission limits for FA lines in light of recently submitted corrected source emissions data.

DATES: This rule is effective on October 25, 2017, without further notice, unless the EPA receives significant adverse comment by August 28, 2017, or if a public hearing is requested, by August 3, 2017.

Public Hearing. If requested by August 3, 2017, the EPA will hold a public hearing to accept oral comments on this action. EPA will publish a document in the Federal Register announcing the date and location if a public hearing is requested.

If the EPA receives significant adverse comment, or if a public hearing is requested, we will publish a timely withdrawal in the Federal Register informing the public that the rule will not take effect.

ADDRESSES: Submit your comments, identified by Docket ID No. EPA-HQ-OAR-2010-1042, at http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

To request a hearing, to register to speak at a hearing, or to inquire if a hearing will be held, please contact Aimee St. Clair at (919) 541-1063 or by email at stclair.aimee@epa.gov.

FOR FURTHER INFORMATION CONTACT: Mr. Brian Storey, Sector Policies and Programs Division (D243-04), Office of Air Quality Planning and Standards, U.S. Environmental Protection Agency, Research Triangle Park, North Carolina 27711; telephone number: (919) 541-1103; fax number: (919) 541-5450; and email address: storey.brian@epa.gov.

SUPPLEMENTARY INFORMATION:

Organization of This Document. The information in this preamble is organized as follows:

I. General Information

A. Why is the EPA using a direct final rule?

B. Does this direct final rule apply to me?

C. What should I consider as I prepare my comments for the EPA?

II. What are the amendments made by this direct final rule?

III. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution, or Use

I. National Technology Transfer and Advancement Act (NTTAA)

J. Executive Order 12898: Federal Actions to Address Environmental Justice in Minority Populations and Low-Income Populations

K. Congressional Review Act (CRA)

I. General Information

A. Why is the EPA using a direct final rule?

The EPA is publishing this direct final rule without a prior proposed rule because we view this as a noncontroversial action and do not anticipate significant adverse comment. However, in the “Proposed Rules” section of this Federal Register, we are publishing a separate document that will serve as the proposed rule to amend the National Emission Standards for Hazardous Air Pollutants for Wool Fiberglass Manufacturing, if the EPA receives significant adverse comments on this direct final rule. We will not institute a second comment period on this action. Any parties interested in commenting must do so at this time. For further information about commenting on this rule, see the ADDRESSES section of this document.

If the EPA receives significant adverse comment on all or a distinct portion of this direct final rule, we will publish a timely withdrawal in the Federal Register informing the public that some or all of this direct final rule will not take effect. We would address all public comments in any subsequent final rule based on the proposed rule. In any subsequent final rule, the EPA will examine whether there is “good cause,” under 5 U.S.C. 553(d)(3), to designate the publication date of the final rule (based on our parallel proposal) as the effective date for implementation of the final rule.

B. Does this direct final rule apply to me?

Categories and entities potentially regulated by this direct final rule include:

Category | NAICS code ¹
Wool fiberglass manufacturing facilities | 327993
¹ North American Industry Classification System.

This table is not intended to be exhaustive, but rather provides a guide for readers regarding entities likely to be regulated by this direct final rule. To determine whether your facility is affected, you should examine the applicability criteria in 40 CFR 63.1380. If you have questions regarding the applicability of any aspect of this action to a particular entity, consult either the air permitting authority for the entity or your EPA Regional representative as listed in 40 CFR 63.13.

C. What should I consider as I prepare my comments for the EPA?

Do not submit information containing CBI to the EPA through http://www.regulations.gov or email. Clearly mark the part or all of the information that you claim to be CBI. For CBI information on a disk or CD-ROM that you mail to the EPA, mark the outside of the disk or CD-ROM as CBI and then identify electronically within the disk or CD-ROM the specific information that is claimed as CBI. In addition to one complete version of the comments that includes information claimed as CBI, a copy of the comments that does not contain the information claimed as CBI must be submitted for inclusion in the public docket. Information so marked will not be disclosed except in accordance with procedures set forth in 40 CFR part 2. Send or deliver information identified as CBI only to the following address: OAQPS Document Control Officer (C404-02), U.S. Environmental Protection Agency, Research Triangle Park, North Carolina 27711, Attention Docket ID No. EPA-HQ-OAR-2010-1042.

II. What are the amendments made by this direct final rule?

Under the rule published in 2015 (80 FR 45280, July 29, 2015), the owner or operator of an FA line subject to the emission limits for formaldehyde, phenol, and methanol in Table 2 to 40 CFR part 63, subpart NNN, must demonstrate compliance with the limits by July 31, 2017. This compliance date is 2 years after promulgation of the amended limits. We note that CAA section 112 allows sources up to 3 years to comply with emission standards. With this action, we are extending the compliance date for certain emission limitations by another year so the EPA can review the emission limitations to address two recent issues that have come to our attention.

First, in March 2017, Johns-Manville, a company that manufactures wool fiberglass using the FA process, notified the EPA that the data they collected in 2011 for the Wool Fiberglass Residual Risk and Technology Review (RTR) contained errors in the methodology and, ultimately, the final stack test emissions results submitted to the EPA. These data were used by the EPA in the development of the current emission limits for formaldehyde, methanol, and phenol emitted from the bonding and curing processes on FA lines. Johns-Manville representatives stated that they did not realize at the time of the 2011 test submittal that the methodology was in error, and it went undiscovered until 2017, when the laboratory that conducted the emissions testing informed the company of the error. Johns-Manville notified the EPA of the errors, and, with the testing contractor, corrected the errors and provided revised test results along with newly collected test data for the FA lines.

Second, Johns-Manville informed the EPA that some of their FA lines manufacture a product by extruding extremely thin glass fibers at a very low pull rate through a fiber forming process. This process is also subject to the FA line limits, which are expressed in pounds of pollutant per ton of glass pulled. Johns-Manville asked the EPA to consider alternative emission limits for such processes which would be equivalent to the pounds per ton limits, but would be expressed as a concentration (pounds of pollutant per dry standard cubic foot) or as hourly production (pounds of pollutant per hour).

The EPA is reviewing the new and corrected data submitted by Johns-Manville, and will determine at a later date what, if any, actions are appropriate. We plan to propose any actions we believe are appropriate along with the technology review proposed rulemaking for the rotary spin lines, which is expected to be promulgated in December 2017. During the extension to the compliance date, the EPA will review the corrected emission test data as well as the new test data collected on low-pull FA lines. Only the compliance date for FA lines is affected by this action, and no changes to the emission limits, operating limits, monitoring requirements, or other requirements are being made at this time.

In any subsequent final rule, if necessary, the EPA intends to examine whether there is “good cause,” under 5 U.S.C. 553(d)(3), to designate the publication date of the final rule (based on our parallel proposal) as the effective date for implementation of the final rule.

III. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was, therefore, not submitted to the Office of Management and Budget (OMB) for review.

B. Paperwork Reduction Act (PRA)

This action does not impose any new information collection burden under the PRA. OMB has previously approved the information collection activities contained in the existing regulation (40 CFR part 63, subpart NNN) and has assigned OMB control number 2060-0114. This action does not change the information collection requirements.

C. Regulatory Flexibility Act (RFA)

I certify that this action will not have a significant economic impact on a substantial number of small entities under the RFA. This action will not impose any requirements on small entities. This action does not create any new requirements or burdens and no costs are associated with this direct final action.

D. Unfunded Mandates Reform Act (UMRA)

This action does not contain an unfunded mandate as described in UMRA, 2 U.S.C. 1531-1538, and does not significantly or uniquely affect small governments. The action imposes no enforceable duty on any state, local, or tribal governments or the private sector.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications, as specified in Executive Order 13175. There are no wool fiberglass facilities located on tribal lands. Thus, Executive Order 13175 does not apply to this action.

G. Executive Order 13045: Protection of Children From Environmental Health Risks and Safety Risks

The EPA interprets Executive Order 13045 as applying to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution, or Use

This action is not subject to Executive Order 13211 because it is not a significant regulatory action under Executive Order 12866.

I. National Technology Transfer and Advancement Act (NTTAA)

This rulemaking does not involve technical standards.

J. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994). This action does not affect the level of protection provided to human health or the environment.

K. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Intergovernmental relations, Reporting and recordkeeping requirements.

Dated: July 6, 2017.
E. Scott Pruitt,
Administrator.

For the reasons stated in the preamble, the Environmental Protection Agency is amending title 40, chapter I, part 63 of the Code of Federal Regulations (CFR) as follows:

PART 63—NATIONAL EMISSION STANDARDS FOR HAZARDOUS AIR POLLUTANTS FOR SOURCE CATEGORIES

1. The authority citation for part 63 continues to read as follows:

Authority: 42 U.S.C. 7401, et seq.

Subpart NNN—National Emission Standards for Hazardous Air Pollutants for Wool Fiberglass Manufacturing

2. Table 2 to Subpart NNN of part 63 is amended by revising entry 12 to read as follows:

Table 2 to Subpart NNN of Part 63—Emissions Limits and Compliance Dates
If your source is a: | And you commenced construction: | Your emission limits are: ¹ | And you must comply by: ²
* * * * * * *
12. Flame-attenuation line manufacturing any product | On or before November 25, 2011 | 1.4 lb phenol per ton of glass pulled 5.6 lb formaldehyde per ton of glass pulled 0.50 lb methanol per ton of glass pulled | July 31, 2018.
* * * * * * *
¹ The numeric limits do not apply during startup and shutdown.
² Existing sources must demonstrate compliance by the compliance dates specified in this table. New sources have 180 days after the applicable compliance date to demonstrate compliance.

* * * * *

[FR Doc. 2017-14940 Filed 7-26-17; 8:45 am]

BILLING CODE 6560-50-P